DEPARTMENT OF ENERGY

Federal Energy Regulatory Commission

[Docket No. PF12-9-000]

Constitution Pipeline Company, LLC; Notice of Public Scoping Meeting and Extension of Scoping Period for the Planned Constitution Pipeline Project

On October 24, 2012, the Federal Energy Regulatory Commission (FERC or Commission) will hold an additional public scoping meeting for Constitution Pipeline Company's (Constitution) Constitution Pipeline Project. This notice also extends the scoping period for the project, which will now close on November 9, 2012. The project would consist of a 120.6-mile-long natural gas pipeline in Susquehanna County, Pennsylvania; and Broome, Chenango, Delaware, and Schoharie Counties, New York. FERC staff will conduct this public scoping meeting as part of our preparation of an environmental impact statement (EIS) for the project. The scoping meeting is designed to provide the public with an opportunity to offer verbal comments on the project and on the issues they believe should be addressed in the EIS.

More information about this project and the Commission's EIS process is available in the Notice of Intent to Prepare an Environmental Impact Statement for the Planned Constitution Pipeline Project, Request for Comments on Environmental Issues, and Notice of Public Scoping Meetings (NOI), issued on September 7, 2012. The NOI also provides details on how to submit written comments in lieu of or in addition to verbal comments on the project.¹ We ask that you submit your comments so that we receive them by November 9, 2012.

¹ The NOI can be viewed on the Commission's e-Library link under Accession Number 20120907-3012.

Constitution representatives will be present one hour before the meeting with maps of the potential routes. The additional public scoping meeting is scheduled as follows:

Wednesday, October 24, 2012, Beginning at 7:00-10:00 p.m. EDT, Foothills Performing Arts & Civic Center Atrium, 24 Market Street, Oneonta, New York 13820

This and all public meetings will be posted on the Commission's calendar located at www.ferc.gov/EventCalendar/EventsList.aspx along with other related information.

This notice is being sent to the Commission's current environmental mailing list for this project. Additional information about the project is available from the Commission's Office of External Affairs, at (866) 208-FERC, or on the FERC Web site at www.ferc.gov using the “eLibrary” link. Click on the eLibrary link, click on “General Search” and enter the docket number, excluding the last three digits in the Docket Number field (i.e., PF12-9). Be sure you have selected an appropriate date range. For assistance, please contact FERC Online Support at FercOnlineSupport@ferc.gov or toll free at (866) 208-3676, or for TTY, contact (202) 502-8659.

Dated: October 9, 2012.
Kimberly D. Bose,
Secretary.

[FR Doc. 2012-25388 Filed 10-15-12; 8:45 am]

BILLING CODE 6717-01-P